DEPARTMENT OF TRANSPORTATION

Federal Aviation Administration

Notice of Intent To Rule on Request To Release Airport Property at the Tillamook Airport, Tillamook, OR

AGENCY: Federal Aviation Administration (FAA), DOT.

ACTION: Notice of Request to Release Airport Property.

SUMMARY: The FAA proposes to rule and invite public comment on the release of land at Tillamook Airport under the provisions of Section 125 of the Wendell H. Ford Aviation Investment Reform Act for the 21st Century (AIR 21), now 49 U.S.C. 47107(h)(2).

DATES: Comments must be received on or before March 15, 2007.

ADDRESSES: Comments on this application may be mailed or delivered to the FAA at the following address: Mr. J. Wade Bryant, Manager, Federal Aviation Administration, Northwest Mountain Region, Airports Division, Seattle Airports District Office, 1601 Lind Avenue, SW., Suite 250, Renton, Washington 98057-3356.

In addition, one copy of any comments submitted to the FAA must be mailed or delivered to Mr. Jack Crider, Port Manager of the Port of Tillamook Bay, at the following address: Mr. Jack Crider, Port Manager, Port of Tillamook Bay, 4000 Blimp Blvd., Tillamook, OR 97141.

FOR FURTHER INFORMATION CONTACT: Mr. William L. Watson, OR/ID Section Supervisor, Federal Aviation Administration, Northwest Mountain Region, Seattle Airports District Office, 1601 Lind Avenue, SW., Suite 250, Renton, Washington 98057-3356.

The request to release property may be reviewed, by appointment, in person at this same location.

SUPPLEMENTARY INFORMATION: The FAA invites public comment on the request to release property at the Tillamook Airport under the provisions of the AIR 21 (49 U.S.C. § 47107(h)(2)).

On January 31, 2007, the FAA determined that the request to release property at Tillamook Airport submitted by the airport meets the procedural requirements of the Federal Aviation Administration. The FAA may approve the request, in whole or in part, no later than March 15, 2007.

The following is a brief overview of the request:

Tillamook Airport is proposing the release of approximately 19,144 square feet of airport property to the Oregon Department of Transportation for turn lane improvements to reduce traffic congestion. The revenue made from this sale will be used toward Airport Capital Improvement.

Any person may inspect, by appointment, the request in person at the FAA office listed above under FOR FURTHER INFORMATION CONTACT.

In addition, any person may, upon appointment and request, inspect the application, notice and other documents germane to the application in person at Tillamook Airport.

Issued in Renton, Washington on January 31, 2007.
J. Wade Bryant,
Manager, Seattle Airports District Office.

[FR Doc. 07-626 Filed 2-12-07; 8:45 am]

BILLING CODE 4910-13-M